DEPARTMENT OF TRANSPORTATION

Office of the Secretary

49 CFR Part 37

[Docket No. OST-2000-7703]

RIN 2105-AC86

Americans With Disabilities Act Accessibility Standards

AGENCY: Office of the Secretary.

ACTION: Notice of proposed rulemaking (NPRM).

SUMMARY: The Department of Transportation is proposing to amend its rules implementing the Americans with Disabilities Act (ADA) by adopting as its standards revised accessibility guidelines proposed by the Architectural and Transportation Barriers Compliance Board (Access Board). The Access Board published a notice of proposed rulemaking (NPRM) to revise and update the accessibility guidelines for the ADA and the Architectural Barriers Act (ABA) in the November 16, 1999 issue of the Federal Register. This proposed rule would adopt the Access Board's revised and updated ADA guidelines and make a conforming change to the Department's rule implementing the ADA.

DATES: Comments are requested by September 7, 2000.

ADDRESSES: Mail or hand deliver comments to the U.S. Department of Transportation, Dockets Management Facility, Docket No. OST-2000-7703, Room PL-401, 400 7th Street, SW., Washington, DC 20590, or submit electronically at http://dmses.dot.gov/submit/. The Dockets Management Facility, Room PL-401, is open for public inspection and copying of comments from 9 a.m. to 5 p.m. ET Monday through Friday, except Federal Holidays. Any person wishing acknowledgement of comment receipt should include a self-addressed stamped postcard, or print the acknowledgement page after submitting comments electronically. The public may also review docketed comments electronically.

FOR FURTHER INFORMATION CONTACT: Blane A. Workie, Attorney, Regulation and Enforcement, Department of Transportation, 400 7th Street, SW., Room 10424, Washington, DC, 20590. (202) 366-4723 (voice); (202) 755-7687 (TDD); blane.workie@ost.dot.gov (email). Copies will be made available in alternative formats on request.

SUPPLEMENTARY INFORMATION: All timely comments received by the Access Board on its notice of proposed rulemaking (NPRM) published November 16, 1999 (64 FR 62248), will be deemed by the Department to have been submitted in response to this proposed rule and will be considered fully as the Department works towards a final rule based on this proposal. Therefore, it is not necessary for any comments submitted to the Board on its proposed rule to be resubmitted to the Department.

This proposed rule would adopt the amended Access Board's Appendix A which contains scoping provisions for the ADA and Appendix C which contains common technical provisions for the ADA as a new Appendix A to Part 37, replacing the Department's current Appendix A. The Access Board issued an NPRM on November 16, 1999 and requested public comments on its revised appendices. Then, on March 9, 2000, the Access Board extended the comment period until May 15, 2000 to allow the public additional time to prepare comments on the proposed rule. See 65 FR 12493. As a member of the Access Board, the Department will be actively involved in the review and analysis of comments the Access Board receives and in making any revisions on the appendices in response to those comments. Therefore, the Department has proposed to adopt the Access Board's amended appendices A and C as its accessibility standards. We request comments on whether the Department's accessibility standards should differ from the Access Board's guidelines proposed on November 16, 1999.

Regulatory Analyses and Notices

Executive Order 12866

This NPRM which proposes to adopt the Access Board's accessibility guidelines is significant under Executive Order 12866 and significant under DOT policies and procedures. The Access Board's NPRM which underlies this rule and which was published in the November 16, 1999 Federal Register is also significant under Executive Order 12866 . Both the Access Board's NPRM and this NPRM have been reviewed by the Office of Management and Budget. The Access Board prepared a Regulatory Assessment, which examines the cost impact of sections of the proposed rule that establish new requirements. In order to avoid duplicative or unnecessary analyses, DOT is utilizing the regulatory assessment prepared by the Access Board. Comments submitted to the Access Board on its Regulatory Assessment will be considered by the Department as comments on this NPRM.

Executive Order 13132: Federalism

This NPRM has been analyzed in accordance with the principles and criteria contained in Executive Order 13132 (“Federalism”). This NPRM will not have a substantial effect on the States, on the relationship between the national government and the States, or on the distribution of power and responsibilities among various levels of government.

Unfunded Mandates Reform Act

This NPRM does not need to be assessed to determine its effects on State, local, and tribal governments since it is issued under the authority of the Americans with Disabilities Act (ADA). The Unfunded Mandates Reform Act of 1995 does not apply to proposed or final rules that enforce constitutional rights of individuals or enforce any statutory rights that prohibit discrimination on the basis of race, color, sex, national origin, age, or disability.

Regulatory Flexibility Act

The Access Board has determined that its guidelines will not have a significant economic impact on a substantial number of small entities and, therefore, has not prepared a Regulatory Flexibility Analysis. This determination also applies to the Department's proposed adoption of the revised ADAAG.

Paperwork Reduction Act

This rule does not contain information collection requirements subject to the Paperwork Reduction Act.

List of Subjects in 49 CFR Part 37

Buildings and facilities, Buses, Civil rights, Individuals with disabilities, Mass transportation, Railroads, Reporting and recordkeeping requirements, Transportation.

For the reasons set forth in the preamble, the Department proposes to amend 49 CFR part 37 as set forth below:

PART 37—[AMENDED]

1. The authority citation for part 37 continues to read as follows:

Authority: 42 U.S.C. 12101-12213; 49 U.S.C. 322.

2. Appendix A to Part 37, “Standards for Accessible Transportation Facilities,” is revised to read as follows:

Appendix A to Part 37—Standards for Accessible Transportation Facilities

[Note: The text of the proposed revision is identical to the text of appendices A and C of the Access Board's November 16, 1999 notice of proposed rulemaking. See 64 FR 62248, 62284 and 62371.]

Issued this 25th day of July, 2000, in Washington, DC.
Rodney E. Slater,
Secretary of Transportation.

[FR Doc. 00-19482 Filed 8-7-00; 8:45 am]

BILLING CODE 4910-62-P